DEPARTMENT OF TRANSPORTATION

Federal Aviation Administration

14 CFR Part 71

[Docket No. FAA-2017-0054; Airspace Docket No. 17-ANM-2]

Amendment of Class D and Class E Airspace; Aspen, CO; and Pueblo, CO

AGENCY: Federal Aviation Administration (FAA), DOT.

ACTION: Final rule, technical amendment, withdrawal.

SUMMARY: This action withdraws the final rule, technical amendment published in the Federal Register on April 25, 2017. In that action, the FAA amended Class E Airspace at Aspen Pitkin County/Sardy Field, Aspen, CO, and Pueblo Memorial Airport, Pueblo, CO. The FAA has determined that withdrawal of the final rule, technical amendment is warranted since a change in the geographic coordinates of the airports will affect the charted boundaries of the airspace, and therefore should be considered under the full rulemaking process.

DATES: Effective Date: 0901 UTC, June 7, 2017.

FOR FURTHER INFORMATION CONTACT: Tom Clark, Federal Aviation Administration, Operations Support Group, Western Service Center, 1601 Lind Avenue SW., Renton, WA, 98057; telephone (425) 203-4511.

SUPPLEMENTARY INFORMATION:

History

The FAA published a final rule in the Federal Register (82 FR 18981, April 25, 2017) amending Title 14 Code of Federal Regulations (14 CFR) part 71 amending Class E Airspace designated as an extension to a Class D or Class E surface area at Aspen Pitkin County/Sardy Field, Aspen, CO, and Pueblo Memorial Airport, Pueblo, CO, by eliminating the Notice to Airmen (NOTAM) part-time status. Additionally, the action updated the geographic coordinates of Aspen Pitkin County/Sardy Field, Aspen, CO, and Pueblo Memorial Airport, Pueblo, CO listed in the associated Class D and Class E airspace descriptions for Aspen Pitkin County/Sardy Field, and Pueblo Memorial Airport. The FAA found that by updating the geographic coordinates of the airports, the charted boundaries of the airspace were affected sufficiently to warrant full consideration under the rulemaking process. As a result, the final rule, technical amendment is being withdrawn.

List of Subjects in 14 CFR Part 71

Airspace, Incorporation by reference, Navigation (air).

The Withdrawal

In consideration of the foregoing, the final rule, technical amendment for Docket No. FAA 2017-0054; Airspace Docket No. 17-ANM-2, as published in the Federal Register of April 25, 2017, (82 FR 18981) FR Doc. 2017-08243, is hereby withdrawn.

Authority: 49 U.S.C. 106(f), 106(g), 40103, 40113, 40120; E.O. 10854; 24 FR 9565, 3 CFR, 1959-1963 Comp., p. 389.

Issued in Seattle, Washington, on May 22, 2017.
Sam S.L. Shrimpton,
Acting Group Manager, Operations Support Group, Western Service Center.

[FR Doc. 2017-11475 Filed 6-6-17; 8:45 am]

BILLING CODE 4910-13-P